DEPARTMENT OF COMMERCE

National Oceanic and Atmospheric Administration

[I.D. 032106D]

Caribbean Fishery Management Council; Public Meetings

AGENCY: National Marine Fisheries Service (NMFS), National Oceanic and Atmospheric Administration (NOAA), Commerce.

ACTION: Notice of public meetings.

SUMMARY: The Caribbean Fishery Management Council (Council) its Enforcement Committee and its Administrative Committee will hold meetings.

DATES: The meetings will be held on April 26-27, 2006. See SUPPLEMENTARY INFORMATION for specific dates and times.

ADDRESSES: The meetings will be held at Ponce Hilton Hotel, 1150 Caribe Avenue, Ponce, Puerto Rico 00716.

FOR FURTHER INFORMATION CONTACT: Caribbean Fishery Management Council, 268 Munoz Rivera Avenue, Suite 1108, San Juan, Puerto Rico 00918-1920, telephone: (787) 766-5926.

SUPPLEMENTARY INFORMATION: The Council will convene on Wednesday, April 26, 2006, from 9 a.m. to 5 p.m., and the Administrative Committee will meet from 5:15 p.m. to 6 p.m., on that same day. The Enforcement Committee will meet on April 27, 2006, from 9 a.m. to 12 noon. The Council will reconvene on Thursday, April 27, 2006, from 1:30 p.m. to 5 p.m., approximately.

The Council will hold its 120th regular public meeting to discuss the items contained in the following agenda:

April 26, 2006

9 a.m. - 5 p.m.

•Call to Order

•Adoption of Agenda

•Consideration of 120th Council Meeting Verbatim Transcription

•Executive Director's Report

•ICAAT Presentation

•Models for Ecosystem Based Management Approach - Monica Valle

•Revised Regulations SFA, PR, USVI

5:15 p.m. - 6 p.m.

Administrative Committee Meeting

-AP/SSC/HAP Membership

-Budget 2006, 2007

-Other Business

April 27, 2006

9 a.m. - 12 noon

Enforcement Committee Meeting

1:30 p.m. - 5 p.m.

•Enforcement Reports

-Puerto Rico

-U.S. Virgin Islands

-NOAA

-U.S. Coast Guard

•Administrative Committee Recommendations - April 26. 2006

•Meetings attended by Council members and staff

•Other Business

•Next Council Meeting

The meetings are open to the public, and will be conducted in English. However, simultaneous translation (English-Spanish) will be provided. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/or other auxiliary aids, please contact Mr. Miguel A. Rolon, Executive Director, Caribbean Fishery Management Council, 268 Munoz Rivera Avenue, Suite 1108, San Juan, Puerto Rico, 00918-2577; telephone: (787) 766-5926, at least 5 days prior to the meeting date.

Dated: April 3, 2006.
Tracey L. Thompson,
Acting Director, Office of Sustainable Fisheries, National Marine Fisheries Service.

[FR Doc. E6-4978 Filed 4-6-06; 8:45 am]

BILLING CODE 3510-22-S